DEPARTMENT OF LABOR

Office of Workers' Compensation Programs

Division of Federal Employees' Compensation; Proposed Extension of Existing Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the Office of Workers' Compensation Programs is soliciting comments concerning the proposed collection: Claim for Reimbursement—Assisted Reemployment (CA-2231). A copy of the proposed information collection request can be obtained by contacting the office listed below in the ADDRESSES section of this Notice.

DATES: Written comments must be submitted to the office listed in the ADDRESSES section below on or before July 9, 2019.

ADDRESSES: You may submit comments by mail, delivery service, or by hand to Ms. Yoon Ferguson, U.S. Department of Labor, 200 Constitution Ave. NW, Room S-3323, Washington, DC 20210; by fax, (202) 354-9647, or email to ferguson.yoon@dol.gov. Please use only one method of transmission for comments (mail/delivery, fax, or email). Please note that comments submitted after comment period will not be considered.

SUPPLEMENTARY INFORMATION I. Background: The Office of Workers' Compensation Programs (OWCP) administers the Federal Employees' Compensation Act (FECA) under 5 U.S.C. 8101 et seq. Section 8104(a) of the FECA provides vocational rehabilitation services to eligible injured workers to facilitate their return to work. The costs of providing these vocational rehabilitation services are paid from the Employees' Compensation Fund. Annual appropriations language (currently in Pub. L. 114-113), provides OWCP with legal authority to use amounts from the Fund to reimburse private sector employers for a portion of the salary of reemployed FECA claimants hired through OWCP's assisted reemployment program. Information collected on Form CA-2231 provides OWCP with the necessary remittance information for the employer, documents the hours of work, certifies the payment of wages to the claimant for which reimbursement is sought, and summarizes the nature and costs of the wage reimbursement program for a prompt decision by OWCP. This information collection is currently approved for use through September 30, 2019.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks extension of approval to collect this information to ensure timely and accurate payments to eligible employers for reimbursement claims.

Type of Review: Extension.

Agency: Office of Workers' Compensation Programs.

Title: Claim for Reimbursement-Assisted Reemployment.

OMB Number: 1240-0018.

Agency Number: CA-2231.

Affected Public: Business or other for-profit, Not-for-profit institutions.

Total Respondents: 64.

Total Annual Responses: 128.

Average Time per Response: 30 minutes.

Estimated Total Burden Hours: 32.

Frequency: Quarterly.

Total Burden Cost (capital/startup): $0.

Total Burden Cost (operating/maintenance): $37.

Comments submitted in response to this notice will be summarized and/or included in the request for Office of Management and Budget approval of the information collection request; they will also become a matter of public record.

Dated: May 6, 2019.
Yoon Ferguson,
Agency Clearance Officer, Office of Workers' Compensation Programs, U.S. Department of Labor.

[FR Doc. 2019-09640 Filed 5-9-19; 8:45 am]

BILLING CODE 4510-CH-P